COMMITTEE FOR THE IMPLEMENTATION OF TEXTILE AGREEMENTS

Adjustment of Import Limits for Certain Cotton, Wool and Man-Made Fiber Textiles and Textile Products Produced or Manufactured in Thailand

November 7, 2002.

AGENCY: Committee for the Implementation of Textile Agreements (CITA).

ACTION: Issuing a directive to the Commissioner of Customs adjusting limits.

EFFECTIVE DATE: November 14, 2002.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted, variously, for carryover, the cancellation of carryover, carryforward, the recrediting of unused carryforward, swing and special shift.

A description of the textile and apparel categories in terms of HTS numbers is available in the CORRELATION: Textile and Apparel Categories with the Harmonized Tariff Schedule of the United States (see Federal Register notice 66 FR 65178, published on December 18, 2001). Also see 66 FR 63036, published on December 4, 2001.

James C. Leonard III,
Chairman, Committee for the Implementation of Textile Agreements.

Committee for the Implementation of Textile Agreements

November 7, 2002.

Commissioner of Customs,

Department of the Treasury, Washington, DC 20229

Dear Commissioner: This directive amends, but does not cancel, the directive issued to you on November 27, 2001, by the Chairman, Committee for the Implementation of Textile Agreements. That directive concerns imports of certain cotton, wool, man-made fiber, silk blend and other vegetable fiber textiles and textile products, produced or manufactured in Thailand and exported during the twelve-month period which began on January 1, 2002 and extends through December 31, 2002.

Effective on November 14, 2002, you are directed to adjust the limits for the following categories, as provided for under the Uruguay Round Agreement on Textiles and Clothing:

Category | Adjusted twelve-month limit ¹
Levels in Group I |
200 | 1,813,256 kilograms.
218 | 24,956,130 square meters.
300 | 6,591,528 kilograms.
313-O ² | 30,098,958 square meters.
363 | 31,429,809 numbers.
613/614/615 | 66,902,279 square meters of which not more than 39,767,408 square meters shall be in Categories 613/615 and not more than 39,767,408 square meters shall be in Category 614.
619 | 11,489,616 square meters.
625/626/627/628/629 | 23,505,436 square meters of which not more than 15,816,582 square meters shall be in Category 625.
Sublevels in Group II
334/634 | 978,143 dozen.
336/636 | 533,244 dozen.
338/339 | 3,079,535 dozen.
340 | 479,441 dozen.
341/641 | 1,031,840 dozen.
342/642 | 986,503 dozen.
345 | 469,356 dozen.
347/348 | 1,471,248 dozen.
435 | 61,423 dozen.
442 | 23,148 dozen.
638/639 | 2,896,059 dozen.
640 | 827,657 dozen.
645/646 | 501,611 dozen.
647/648 | 1,682,223 dozen.
¹ The limits have not been adjusted to account for any imports exported after December 31, 2001.
² Category 313-O: all HTS numbers except 5208.52.3035, 5208.52.4035 and 5209.51.6032.

The Committee for the Implementation of Textile Agreements has determined that these actions fall within the foreign affairs exception to the rulemaking provisions of 5 U.S.C. 553(a)(1).

Sincerely,

James C. Leonard III,

Chairman, Committee for the Implementation of Textile Agreements.

[FR Doc. 02-28887 Filed 11-13-02; 8:45 am]

BILLING CODE 3510-DR-S